FEDERAL RESERVE SYSTEM

Agency Information Collection Activities: Announcement of Board Approval Under Delegated Authority and Submission to OMB

SUMMARY: Background. Notice is hereby given of the final approval of proposed information collections by the Board of Governors of the Federal Reserve System (Board) under OMB delegated authority, as per 5 CFR 1320.16 (OMB Regulations on Controlling Paperwork Burdens on the Public). Board-approved collections of information are incorporated into the official OMB inventory of currently approved collections of information. Copies of the Paperwork Reduction Act Submission, supporting statements and approved collection of information instrument(s) are placed into OMB's public docket files. The Federal Reserve may not conduct or sponsor, and the respondent is not required to respond to, an information collection that has been extended, revised, or implemented on or after October 1, 1995, unless it displays a currently valid OMB control number.

FOR FURTHER INFORMATION CONTACT: Federal Reserve Board Clearance Officer—Michelle Shore—Division of Research and Statistics, Board of Governors of the Federal Reserve System, Washington, DC 20551 (202-452-3829). OMB Desk Officer—Kimberly P. Nelson—Office of Information and Regulatory Affairs, Office of Management and Budget, New Executive Office Building, Room 10235, Washington, DC 20503.

Final Approval Under OMB Delegated Authority of the Extension for Three Years, With Revision, of the Following Reports

1. Report title: Survey of Terms of Lending.

Agency form number: FR 2028A, FR 2028B, and FR 2028S.

OMB control number: 7100-0061.

Frequency: Quarterly.

Reporters: Commercial banks; and U.S. branches and agencies of foreign banks (FR 2028A and FR 2028S only).

Annual reporting hours: 6,840 hours.

Estimated average hours per response: FR 2028A, 3.4 hours; FR 2028B, 1.2 hours; and FR 2028S, 0.1 hours.

Number of respondents: FR 2028A, 398; FR 2028B, 250; and FR 2028S, 567.

General description of report: This information collection is authorized by section 11(a)(2) of the Federal Reserve Act [12 U.S.C. 248(a)(2)] and is voluntary. Individual responses are regarded as confidential under the Freedom of Information Act [5 U.S.C. 552(b)(4)].

Abstract: The Survey of Terms of Lending provides unique information concerning both price and certain nonprice terms of loans made to businesses and farmers during the first full business week of the mid-month of each quarter (February, May, August, and November). The survey comprises three reporting forms: The FR 2028A, Survey of Terms of Business Lending; the FR 2028B, Survey of Terms of Bank Lending to Farmers; and the FR 2028S, Prime Rate Supplement to the Survey of Terms of Lending. The FR 2028A and FR 2028B collect detailed data on individual loans made during the survey week, and the FR 2028S collects the prime interest rate for each day of the survey from both FR 2028A and FR 2028B respondents. From these sample data, estimates of the terms of business loans and farm loans extended during the reporting week are constructed. The aggregate estimates for business loans are published in the quarterly E.2 release, Survey of Terms of Business Lending, and aggregate estimates for farm loans are published in the quarterly E.15 release, Agricultural Finance Databook.

Current Actions: On August 4, 2008, the Federal Reserve published a notice in the Federal Register (73 FR 45222) requesting public comment for 60 days on the extension, with revision, of the FR 2028. The comment period for this notice expired on October 3, 2008. The Federal Reserve did not receive any comments on the proposed revisions. The revisions will be implemented as proposed.

2. Report title: Report of Terms of Credit Card Plans.

Agency form number: FR 2572.

OMB control number: 7100-0239.

Frequency: Semi-annual.

Reporters: Commercial banks, savings banks, industrial banks, and savings and loans associations.

Annual reporting hours: 75 hours.

Estimated average hours per response: 0.25 hours.

Number of respondents: 150.

General description of report: This information collection is voluntary (15 U.S.C. 1646(b)) and is not given confidential treatment.

Abstract: This report collects data on credit card pricing and availability from a sample of at least 150 financial institutions that offer credit cards to the general public. The information is reported to the Congress and made available to the public in order to promote competition within the industry.

Current Actions: On August 4, 2008, the Federal Reserve published a notice in the Federal Register (73 FR 45222) requesting public comment for 60 days on the extension, with revision, of this information collection. The comment period for this notice expired on October 3, 2008. The Federal Reserve did not receive any comments. The revisions will be implemented as proposed.

3. Report title: The Report of Transaction Accounts, Other Deposits and Vault Cash.

Agency form number: FR 2900.

OMB control number: 7100-0087.

Frequency: Weekly, quarterly.

Reporters: Depository institutions.

Annual reporting hours: 615,902 hours.

Estimated average hours per response: 3.50 hours.

Number of respondents: 2,996 weekly and 5,045 quarterly.

General description of report: This information collection is mandatory (12 U.S.C. 248(a), 461, 603, and 615) and is given confidential treatment (5 U.S.C. 552(b)(4)).

Abstract: Nonexempt institutions—defined as those with net transaction accounts greater than the exemption amount or with the sum of total transaction accounts, savings deposits, and small time deposits equal to or greater than the reduced reporting limit—file the fifteen-item FR 2900 weekly if the sum of their total transaction accounts, savings deposits, and small time deposits is equal to or greater than the nonexempt deposit cutoff and quarterly if the sum of their total transaction accounts, savings deposits, and small time deposits is less than the nonexempt deposit cutoff. U.S. branches and agencies of foreign banks and banking Edge and agreement corporations are required to submit FR 2900 data weekly regardless of their deposit size. These mandatory data are used by the Federal Reserve for administering Regulation D (Reserve Requirements of Depository Institutions) and for constructing, analyzing, and monitoring the monetary and reserve aggregates.

Current Actions: On August 4, 2008, the Federal Reserve published a notice in the Federal Register (73 FR 45222) requesting public comment for 60 days on the extension, with revision, of this information collection. The comment period for this notice expired on October 3, 2008. The Federal Reserve did not receive any substantive comments. The revisions will be implemented as proposed.

4. Report title: The Annual Report of Deposits and Reservable Liabilities.

Agency form number: FR 2910a.

OMB control number: 7100-0175.

Frequency: Annually.

Reporters: Depository institutions.

Annual reporting hours: 3,659 hours.

Estimated average hours per response: 0.75 hours.

Number of respondents: 4,878.

General description of report: This information collection is mandatory (12 U.S.C. 248(a) and 461) and is given confidential treatment (5 U.S.C. 552(b)(4)).

Abstract: Currently, the three-item FR 2910a is generally filed by exempt institutions whose net transaction accounts are less than or equal to the exemption amount and whose sum of total transaction accounts, savings deposits, and small time deposits is less than the reduced reporting limit but total deposits are greater than the exemption amount. Respondents submit single-day data as of June 30. These mandatory data are used by the Federal Reserve for administering Regulation D (Reserve Requirements of Depository Institutions) and for constructing, analyzing, and monitoring the monetary and reserve aggregates.

Current Actions: On August 4, 2008, the Federal Reserve published a notice in the Federal Register (73 FR 45222) requesting public comment for 60 days on the extension, with revision, of this information collection. The comment period for this notice expired on October 3, 2008. The Federal Reserve did not receive any comments. The revisions will be implemented as proposed.

Board of Governors of the Federal Reserve System, October 8, 2008.
Jennifer J. Johnson,
Secretary of the Board.

[FR Doc. E8-24349 Filed 10-14-08; 8:45 am]

BILLING CODE 6210-01-P